ADVISORY COUNCIL ON HISTORIC PRESERVATION

Notice of Adoption of Policy Statement on Promotion and Value of Traditional Trades Training

AGENCY: Advisory Council on Historic Preservation.

ACTION: Notice of adoption of policy statement on promotion and value of traditional trades training.

SUMMARY: The Advisory Council on Historic Preservation has adopted Policy Statement on Promotion and Value of Traditional Trades Training.

DATES: The policy statement was adopted on October 19, 2020.

ADDRESSES: Address any questions concerning the policy statement to Druscilla J. Null, Advisory Council on Historic Preservation, 401 F Street NW, Suite 308, Washington, DC 20001.

FOR FURTHER INFORMATION CONTACT: Druscilla J. Null, (202) 517-1487, dnull@achp.gov.

SUPPLEMENTARY INFORMATION: The Advisory Council on Historic Preservation (ACHP), an independent federal agency created by the National Historic Preservation Act (NHPA), works to promote the preservation, enhancement, and sustainable use of our nation's diverse historic resources, and advises the President and the Congress on national historic preservation policy.

One of the ACHP's statutory duties under the NHPA is to encourage training and education in the field of historic preservation. In keeping with that mandate, at its November 7, 2019, business meeting, the ACHP initiated discussions regarding traditional trades training. America is suffering from a shortage of skilled workers in the specialized traditional trades often required for historic preservation projects. Expanding opportunities for traditional trades training would be an important step in addressing this problem. Doing so is critical to the maintenance of our nation's historic places and to filling jobs that will help revitalize communities both physically and economically.

At its March 13, 2020, business meeting, the ACHP further explored traditional trades training and discussed the possibility of creating a task force to address the issue. The idea of developing a policy statement on the topic also was discussed. On May 28, 2020, ACHP Chairman Aimee Jorjani announced the creation of the ACHP Traditional Trades Training Task Force (Task Force). One of its stated goals was to develop recommendations for federal action that could be embodied in a formal ACHP policy statement.

The Task Force includes representatives of several federal agencies and individuals with historic preservation, education, and architecture expertise. In addition to ACHP Chairman Jorjani and ACHP Vice Chairman Rick Gonzalez, the following agencies and organizations are represented on the Task Force: The Department of the Interior; Department of Education; National Park Service Historic Preservation Training Center; National Park Service Western Center for Historic Preservation; National Center for Preservation Technology and Training; National Endowment for the Arts; National Trust for Historic Preservation; Preservation Maryland; Savannah Technical College; and Turner Restoration of Detroit.

Based on Task Force meeting discussions throughout the summer and fall, ACHP staff developed a draft policy statement that was reviewed by the Task Force. Based upon input on the outline, a draft of the policy statement was developed and provided to both the Task Force and the ACHP's standing Preservation Initiatives Committee for review. Following further refinement, the draft policy statement was sent to the full ACHP membership for review. The final version of the policy statement was adopted by vote of the ACHP members on October 19, 2020.

The ACHP Policy Statement on Promotion and Value of Traditional Trades Training discusses the need for and the benefits of expanded traditional trades training; suggests key principles that should guide federal, state, and local workforce development and training efforts; and offers recommendations for action.

Text of the Policy Statement on Promotion and Value of Traditional Trades Training

What follows is the text of the adopted policy statement:

ACHP Policy Statement on Promotion and Value of Traditional Trades Training

Quality restoration work on historic buildings requires skilled workers in the traditional trades. Masons, carpenters, painters, plasterers, and others in the construction trades who know how to—and why we should—preserve, repair, replicate, and maintain historic materials and finishes are essential to historic preservation projects. However, the unfortunate reality is that there is an increasingly short supply of such craftspeople. More recognizable opportunities for workforce development and training in the traditional trades not only would help address this problem critical to the maintenance of our nation's historic places, but also would contribute to economic recovery and wellbeing through career pathways that benefit local communities.

The importance and value of the skilled craftworker and the need to support traditional trades training has been recognized in the historic preservation field for many years. The National Trust for Historic Preservation addressed the issue in its 1968 Whitehill Report on Professional and Public Education for Historic Preservation and revisited it almost 40 years later in a 2005 issue of its Forum Journal titled “Building Trades Education in the 21st Century.” The National Park Service (NPS) also addressed the importance of traditional trades training in a 1997 issue of its publication Cultural Resource Management titled “Preservation Trades and Crafts: Working in Preservation and Fostering the Trades.” In the years since these publications were issued, with an aging workforce and building stock, the need to increase the number of skilled craftspeople has only become more acute.

The federal government can play an important role in promoting traditional trades training. NPS already makes a significant contribution through the work of the agency's Historic Preservation Training Center, Western Center for Historic Preservation, and National Center for Preservation Technology and Training. Expanding the scope and scale of traditional trades training in America will require broadening federal engagement.

The Advisory Council on Historic Preservation (ACHP), an independent federal agency created by the National Historic Preservation Act (NHPA), works to promote the preservation, enhancement, and sustainable use of our nation's diverse historic resources, and advises the President and the Congress on national historic preservation policy. One of the ACHP's stated duties in the NHPA is to encourage training and education in the field of historic preservation. In this policy statement, the ACHP discusses the need for and the benefits of expanded traditional trades training; suggests key principles that should guide federal, state, and local workforce development and training efforts; and offers recommendations for action.

Scope of Need and Potential Benefits of Expanded Training

The recent societal trend to devalue the skilled trades as an alternative to college and a worthwhile career path has led to a shortage of new workers entering the construction trades. This is occurring at the same time that many in the existing workforce are retiring. According to a 2019 survey by the Associated General Contractors of America, 80 percent of construction firms reported having difficulty in filling craft positions that represent the bulk of the construction workforce. Similarly, a survey by the National Association of Home Builders found 82 percent of respondents expected labor shortages to be their top issue in 2019. This lack of skilled workers is further magnified for the specialized traditional trades often needed for historic preservation projects.

The relative scarcity of skilled workers in the traditional trades is brought into sharp relief in the wake of natural disasters. After addressing immediate emergency issues, full rehabilitation of damaged historic buildings is often delayed or compromised because of a lack of craftspeople who have expertise working with historic building materials.

Despite this shortage, various public policies promote historic preservation projects that require skilled traditional trades craftspeople. For instance, the Great American Outdoors Act signed into law in 2020 will provide up to $9.5 billion in funding for deferred maintenance within NPS and at other federal facilities. Historic buildings make up about 46 percent of the NPS deferred maintenance backlog, and their repair will boost the demand for skilled workers in the traditional trades. Another relevant policy example is incentivizing preservation through tax credits. The federal Historic Tax Credit for rehabilitation of income-producing historic properties and similar historic tax credits in 37 states require that projects meet quality standards (generally the Secretary of the Interior's Standards for Rehabilitation). Meeting such standards often requires work by craftspeople trained in the traditional trades.

Growing the ranks of skilled traditional trades workers would help to build preservation capacity in the construction trades and ensure that precious historic resources are preserved for future generations. Expanded traditional trades training also would bolster local economies, helping to fill vacant jobs. Enhancing traditional trades training opportunities—notably for youth and veterans—would allow people to acquire marketable knowledge, skills, and abilities that employers are seeking. Resulting jobs often are well-paid and secure. Median wages in construction have been outpacing the national median wage, according to the National Association of Home Builders. Additionally, the current shortage of traditional trades workers coupled with projected continued demand will provide new entrants into those trades with considerable job security.

Framework for Expanding Traditional Trades Training

The effectiveness of efforts to expand training opportunities in the traditional trades will be maximized if grounded upon the following key concepts.

—Training opportunities in the traditional trades should be widely available. There should be national and regional traditional trades training opportunities with a variety of options and pathways of different durations (immersion, apprenticeships, degree programs) and educational levels (high school, vocational school, community college, college) in order to maximize the number of new workers entering the field. Tradespeople already working in related fields also should have opportunities to add traditional trades expertise to their skill set. Likewise, craftspeople already in the traditional trades would benefit from continuing education opportunities.

—Importance of open-source training curriculum. Each traditional trades training program currently has to create its own curriculum. This problem of reinventing the wheel would be minimized if open-source curriculum options were available. Standardized programs of study that could be tailored to unique local needs would ease creation of training programs, make them more sustainable, and encourage the growth of a community of instructors in such programs.

—Apprenticeship programs are essential. By its very nature, traditional trades training requires hands-on instruction and mentoring. Apprenticeships provide that gateway for entry-level students to learn from experienced craftspeople. They can alleviate the burden of student loans. Apprenticeships also are a key way of matching students with the companies that need their services for direct job placement.

—Importance of industry-recognized credentials and/or qualification standards. Currently, there are no third-party credentialing organizations bestowing credentials for the traditional trades and no specific qualification standards that must be met in order to claim proficiency. Such formal recognition verifies a person's competence in their chosen skill, is sought after by employers, and would be advantageous for traditional trades craftspeople seeking to document their expertise. Credentialing would be a significant step toward enhancing the stature of traditional trades craftspeople relative to the other professionals (architectural historians, architects, engineers, etc.) who collaborate to restore and rehabilitate historic properties.

Recommendations for Federal Action

The federal government can play an important role in promoting traditional trades training and workforce development. The following recommendations address both use of existing federal programs and consideration of new policies and programs.

—Integrate traditional trades into existing Department of Labor (DOL) apprenticeship programs. DOL oversees the National Apprenticeship Program, a system of registered apprenticeships implemented by DOL and state apprenticeship agencies that in 2020 was supplemented with a new model of industry-recognized apprenticeships. There are significant untapped opportunities to accommodate and encourage traditional trades apprenticeships in this national apprenticeship framework. DOL should include traditional trades in its Occupational Information Network Program and the Standard Occupational Classification Codes upon which that program is based.

—Encourage states to use existing Department of Education (ED) career and technical education funding for traditional trades training in state Perkins plans. Under the Carl D. Perkins Career and Technical Education Act, ED awards more than $1 billion a year in state formula grants and competitive discretionary grants for the improvement of career and technical education programs across the nation. While decisions about how the money is spent rests at the state and local level, there is ED oversight of state plans and implementation. In that context, ED should pursue opportunities to advise states on the potential benefits of traditional trades training in meeting the labor market need for such craftspeople.

—Encourage recipients of existing Department of Housing and Urban Development (HUD) funding to address traditional trades training when meeting workforce development requirements. Under Section 3 of the Housing and Urban Development Act, recipients of certain HUD financial assistance must, to the greatest extent feasible, provide job training, employment, and contracting opportunities for low- or very-low income residents in connection with projects and activities in their neighborhoods. To meet Section 3 requirements, HUD grantees and their contractors sometimes run or participate in training and apprenticeship programs that prepare community residents for jobs. HUD should pursue opportunities to encourage addressing the traditional trades, particularly for projects involving historic properties and the rehabilitation of affordable housing.

—Consider options for federal support in development of open-source traditional trades training curriculum. NPS's Historic Preservation Training Center, Western Center for Historic Preservation, and National Center for Preservation Technology and Training are logical focal points for a federal response to the need for traditional trades training curriculum, with development work either being done in-house or through contracts. As a first step, there should be a review of existing programs and curriculum to serve as a baseline for next steps in curriculum development. Once curriculum is developed, federal support might also assist in “training the trainers” to help institutions and individuals become familiar with the curriculum.

—Develop federal qualification standards for the traditional trades. As directed by the NHPA, the Secretary of the Interior has developed advisory Historic Preservation Professional Qualification Standards (Qualification Standards). The intent is to assist federal agencies in ensuring that the employees and contractors responsible for preservation of federally managed historic properties have the knowledge, skills, and abilities to do so effectively. Published in 1983, the Qualification Standards focus on the academic disciplines of history, archaeology, architectural history, architecture, and historic architecture, as identified in the NHPA. Left unaddressed is the competency of the craftspeople in the traditional trades performing the work of applying the preservation treatments. NPS should include the traditional trades in any future revision of the Secretary's Qualification Standards or should explore development of a parallel set of standards that could be used to assess and document proficiency in the traditional trades.

—Include traditional trades training in implementation of the Great American Outdoors Act. The passage of the Great American Outdoors Act is anticipated to create a significant demand for skilled workers in the traditional trades to address deferred maintenance at properties managed by NPS (principally) and also the USDA Forest Service, Fish and Wildlife Service, Bureau of Land Management, and Bureau of Indian Education. Using a small portion of the billions of dollars that will become available under the law for traditional trades training would be a strategic investment to address an immediate need as well as a way of having a lasting positive impact on the current shortage of traditional trades craftspeople.

—Promote traditional trades training in the work of conservation corps. Used by federal agencies, Indian tribes, states, and local communities, conservation corps engage young adults and veterans in service projects addressing recreation, conservation, disaster response, and other needs. While many corps focus principally on natural resources, conservation corps also assist in the preservation of historic properties, with a few focusing solely on historic preservation projects. Such projects offer important opportunities to introduce corps members to the traditional trades and provide training. Federal land-managing agencies should set an example by maximizing use of conservation corps to address historic preservation needs on public lands.

—Explore use of COVID-19 recovery/stimulus funding to create jobs and job training in the traditional trades. Much of COVID-19 recovery funding to date has focused on direct aid for individuals, businesses, organizations, and institutions (including museums and non-profits), and funding for agencies to directly respond to the pandemic. If future legislation is passed that addresses economic recovery from COVID-19 more broadly, there may be opportunities to support traditional trades training as part of enhanced funding for existing programs or creation of new programs. For instance, any new or augmented programs to create affordable housing might incorporate job training for local residents in the rehabilitation of existing older housing stock. New programs might build—both literally and figuratively—upon the example of Depression-era public works programs. Buildings and structures created by the Works Progress Administration and Civilian Conservation Corps are now historic properties, and a program to train youth in restoring those properties would be one economic stimulus program restoring the work of another.

—Utilize the Historic Preservation Fund (HPF) for traditional trades training grants, as authorized by the NHPA. The NHPA authorizes the Department of the Interior (DOI) to administer a grants program for “the training and development of skilled labor in trades and crafts, and in analysis and curation, relating to historic preservation” (54 U.S.C. 302904). The funding source is the HPF. This skilled labor component of the HPF remains to be funded. DOI should seek funding to support this grants program in future fiscal year budget requests.

—Explore development of sustainable, dedicated funding that would be a continuing source of revenue for traditional trades training. While funding from the HPF for traditional trades training already is authorized and would help in combatting the current shortage of craftspeople, there are other important programs competing for HPF dollars. Creation of dedicated, sustainable sources of funding specifically for traditional trades training would be a significant step forward. Such funding should be established not only at the federal level but also through state and local government action. The shape that such funding might take and the ways in which the federal government might support it merit further development and consideration. The ACHP should promote a dialogue on the issue with key partners, including DOI, the National Conference of State Historic Preservation Officers, the National Association of State Workforce Agencies, Certified Local Governments, the National Alliance of Preservation Commissions, and the National Trust for Historic Preservation.

Traditional trades are critically important to preserving the heritage of our historic built environment for future generations. They also can translate into secure, well-paying jobs that help revitalize communities both physically and economically. Expanding training opportunities and networks in the traditional trades is essential. It is critical to do what we can to enable this important field to expand into pathways that are available to the American worker.

Wide ranging in lines of expertise, it is the skilled craftworker who is making preservation happen through hands-on and on-site work. The connection to preservation is the central theme that brings many different skill sets together. It is the contract worker, the stone mason, the woodcrafter, the conservator, the trade union member, the craft guild member, maintenance crews, and building managers—all preserving on a daily basis.

Placing trust with the decision making on the qualified tradesperson or providing the opportunity to share the responsibility at the preservation job site with both the preservation professional and the skilled tradesperson empowers this field. By broadening this vision of the preservation expert—the skilled craftworker—the ACHP has adopted this policy statement to encourage and help guide efforts and partnerships to address this urgent need while offering rewarding careers and professional fulfillment.

Authority: 54 U.S.C. 304102.

Dated: November 2, 2020.
Javier Marqués,
General Counsel.

[FR Doc. 2020-24645 Filed 11-5-20; 8:45 am]

BILLING CODE 4310-K6-P